Title 3—

The President

Memorandum of March 12, 2015

Delegation of Authority Pursuant to Section 1278(b)(1) of the National Defense Authorization Act for Fiscal Year 2015

Memorandum for the Director of the National Counterterrorism Center

By the authority vested in me as President by the Constitution and the laws of the United States of America, including section 301 of title 3, United States Code, I hereby delegate the functions and authorities vested in the President by section 1278(b)(1) of the National Defense Authorization Act for Fiscal Year 2015 (Public Law 113-291) to the Director of the National Counterterrorism Center.

You are authorized and directed to publish this memorandum in the Federal Register.

THE WHITE HOUSE,

Washington, March 12, 2015

[FR Doc. 2015-06253

Filed 3-16-15; 8:45 am]

Billing code 3910-A7